DEPARTMENT OF EDUCATION

[Docket No.: ED-2021-SCC-0159]

Agency Information Collection Activities; Submission to the Office of Management and Budget for Review and Approval; Comment Request; EDFacts Data Collection School Years 2022-23, 2023-24, and 2024-25 (With 2021-22 Continuation)

AGENCY: Institute of Education Sciences (IES), Department of Education (ED).

ACTION: Notice.

SUMMARY: In accordance with the Paperwork Reduction Act of 1995, ED is proposing a revision of a currently approved collection.

DATES: Interested persons are invited to submit comments on or before April 28, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Carrie Clarady, (202) 245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: EDFacts Data Collection School Years 2022-23, 2023-24, and 2024-25 (With 2021-22 Continuation).

OMB Control Number: 1850-0925.

Type of Review: Revision of a currently approved collection.

Respondents/Affected Public: State, Local, and Tribal Governments.

Total Estimated Number of Annual Responses: 61.

Total Estimated Number of Annual Burden Hours: 216,880.

Abstract: EDFacts is a U.S. Department of Education (ED) initiative, conducted by the National Center for Education Statistics (NCES), to collect, analyze, report on, and promote the use of high-quality, pre-kindergarten through grade 12 (pre-K-12) performance data. By centralizing data provided by state education agencies about state level data, local education agencies, and schools, NCES uses the EDFacts data to report on students, schools, staff, services, and education outcomes at the state, district, and school levels. The centralized approach provides ED users with the ability to efficiently analyze and report on submitted data and has reduced the reporting burden for state and local data producers through the use of streamlined data collection, analysis, and reporting tools. EDFacts collects information on behalf of ED grant and program offices for approximately 170 data groups for all 50 states, Washington DC, Puerto Rico, and seven outlying areas and freely associated states (American Samoa, Federated States of Micronesia, Guam, Marshall Islands, Commonwealth of the Northern Mariana Islands, Republic of Palau, and the U.S. Virgin Islands), the Department of Defense Education Activity (DoDEA), and the Bureau of Indian Education (BIE). This request is to collect EDFacts data for the 2022-23, 2023-24, and 2024-25 school years. This collection package will be available for public comment during two open periods, a 60 day and a 30 day, after which revisions will be made accordingly. As part of the public comment period review, ED requests that SEAs and other stakeholders respond to the directed questions found in Attachment D and D-1. Due to overlap in the timing of data collection activities between consecutive years of the EDFacts collection, we are carrying over in this submission the approved SY 2021-22 data collection, which is scheduled to end in February 2023.

Dated: March 24, 2022.
Stephanie Valentine,
PRA Coordinator, Strategic Collections and Clearance, Governance and Strategy Division, Office of Chief Data Officer, Office of Planning, Evaluation and Policy Development.

[FR Doc. 2022-06553 Filed 3-28-22; 8:45 am]

BILLING CODE 4000-01-P